ENVIRONMENTAL PROTECTION AGENCY

[EPA-HQ-OAR-2008-0027; FRL-8522-6]

Proposed Approval of the Transuranic Waste Characterization Program at the Hanford Site

AGENCY: Environmental Protection Agency.

ACTION: Notice of availability; opening of public comment period.

SUMMARY: The Environmental Protection Agency (EPA or we) is announcing the availability of, and soliciting public comments for 45 days on, the proposed approval of the radioactive, contact-handled (CH), transuranic (TRU) waste characterization program implemented at the Hanford Site in Richland, Washington. This waste is intended for disposal at the Waste Isolation Pilot Plant (WIPP) in New Mexico.

In accordance with the WIPP Compliance Criteria, EPA evaluated the characterization of CH TRU debris and solid waste from Hanford during an inspection conducted the week of June 4, 2007. Using the systems and processes developed as part of the U.S. Department of Energy's (DOE's) Carlsbad Field Office (CBFO) program, EPA verified whether DOE could adequately characterize CH TRU waste consistent with the Compliance Criteria. The results of EPA's evaluation of Hanford's program and its proposed approval are described in the Agency's inspection report, which is available for review in the public dockets listed in ADDRESSES. We will consider public comments received on or before the due date mentioned in DATES.

This notice summarizes the waste characterization processes evaluated by EPA and EPA's proposed approval. As required by 40 CFR 194.8, at the end of a 45-day comment period EPA will evaluate public comments received, and if appropriate, finalize the reports responding to the relevant public comments, and issue a final report and approval letter to DOE.

DATES: Comments must be received on or before March 17, 2008.

ADDRESSES: Submit your comments, identified by Docket ID No. EPA-HQ-OAR-2008-0027, by one of the following methods:

• http://www.regulations.gov: Follow the on-line instructions for submitting comments.

• E-mail: To a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2008-0027. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available electronically at http://www.regulations.gov.

These documents are also available for review in hard-copy form at the following three EPA WIPP informational docket locations in New Mexico: in Carlsbad at the Municipal Library, Hours: Monday-Thursday, 10 a.m.-9 p.m., Friday-Saturday, 10 a.m.-6 p.m., and Sunday, 1 p.m.-5 p.m., phone number: 505-885-0731; in Albuquerque at the Government Publications Department, Zimmerman Library, University of New Mexico, Hours: vary by semester, phone number: 505-277-2003; and in Santa Fe at the New Mexico State Library, Hours: Monday-Friday, 9 a.m.-5 p.m., phone number: 505-476-9700. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Federal Regulations, Mail Code 6608J, U.S. Environmental Protection Agency, 1200 Pennsylvania Avenue, Washington, DC 20460; telephone number: 202-343-9601; fax number: 202-343-2305; e-mail address: joglekar.rajani@epa.gov or feltcorn.ed@epa.gov.

SUPPLEMENTARY INFORMATION:

I. General Information

A. What Should I Consider As I Prepare My Comments For EPA?

1. Submitting CBI. Do not submit this information to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. 102-579), as amended (Pub. L. 104-201), TRU waste consists of materials that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in shielded casks. Surface radiation levels of unshielded containers of remote-handled transuranic waste exceed 200 millirems per hour. RH waste primarily emits gamma radiation, which is very penetrating and requires concrete, lead, or steel to block it.

On May 13, 1998, EPA issued a final certification of compliance for the WIPP facility. The final rule was published in the Federal Register on May 18, 1998 (63 FR 27354). EPA officially recertified WIPP on March 29, 2006 (71 FR 18015). Both the certification and recertification determined that WIPP complies with the Agency's radioactive waste disposal regulations at 40 CFR part 191, subparts B and C, and is therefore safe to contain TRU waste.

The final WIPP certification decision includes conditions that (1) prohibit shipment of TRU waste for disposal at WIPP from any site other than the Los Alamos National Laboratories (LANL) until the EPA determines that the site has established and executed a quality assurance program, in accordance with §§ 194.22(a)(2)(i), 194.24(c)(3), and 194.24(c)(5) for waste characterization activities and assumptions (Condition 2 of Appendix A to 40 CFR part 194); and (2) (with the exception of specific, limited waste streams and equipment at LANL) prohibit shipment of TRU waste for disposal at WIPP (from LANL or any other site) until EPA has approved the procedures developed to comply with the waste characterization requirements of § 194.22(c)(4) (Condition 3 of Appendix A to 40 CFR part 194). The EPA's approval process for waste generator sites is described in § 194.8 (revised July 2004).

Condition 3 of the WIPP Certification Decision requires EPA to conduct independent inspections at DOE's waste generator/storage sites of their TRU waste characterization capabilities before approving their program and the waste for disposal at the WIPP. EPA's inspection and approval process gives EPA (a) discretion in establishing technical priorities, (b) the ability to accommodate variation in the site's waste characterization capabilities, and (c) flexibility in scheduling site WC inspections.

As described in section 194.8(b), EPA's baseline inspections evaluate each WC process component (equipment, procedures, and personnel training/experience) for its adequacy and appropriateness in characterizing TRU waste destined for disposal at WIPP. During an inspection, the site demonstrates its capabilities to characterize TRU waste(s) and its ability to comply with the regulatory limits and tracking requirements under § 194.24. A baseline inspection may describe any limitations on approved waste streams or waste characterization processes [§ 194.8(b)(2)(iii)]. In addition, a baseline inspection approval must specify what subsequent WC program changes or expansion should be reported to EPA [§ 194.8(b)(4)]. The Agency is required to assign Tier 1 (T1) and Tier 2 (T2) to the reportable changes depending on their potential impact on data quality. A T1 designation requires that the site must notify EPA of proposed changes to the approved components of an individual WC process (such as radioassay equipment or personnel), and EPA must also approve the change before it can be implemented. A WC element with a T2 designation allows the site to implement changes to the approved components of individual WC processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The site inspection and approval process outlined in § 194.8 requires EPA to issue a Federal Register notice proposing the baseline compliance decision, docket the inspection report for public review, and seek public comment on the proposed decision for a period of 45 days. The report must describe the WC processes EPA inspected at the site, as well as their compliance with § 194.24 requirements.

III. Proposed Baseline Compliance Decision

EPA has performed a baseline inspection of CH TRU waste characterization (WC) activities at Hanford (EPA Inspection No. EPA-HAN-6.07-8). The purpose of EPA's inspection was to verify that the waste characterization program implemented at Hanford for characterizing CH TRU, retrievably-stored, debris and solid waste is technically adequate and meets the regulatory requirements at 40 CFR 194.24.

During the inspection, EPA evaluated the adequacy of the site's WC programs for two CH TRU waste categories, debris (S5000) and solids (S3000), to be disposed of at the WIPP. The Agency examined the following activities:

• Acceptable knowledge (AK) for CH TRU debris waste (S5000) and solid waste (S3000) and AK for CH, repackaged debris waste (S5000) from the Plutonium Finishing Plant (PFP).

• Visual examination (VE) in lieu of real-time radiography (RTR) for CH TRU debris waste (S5000) and solid waste (S3000) and Visual Examination Technique (VET) for CH, repackaged debris waste from the PFP.

• RTR for CH TRU debris waste (S5000) and solid waste (S3000).

• Nondestructive assay (NDA) systems at the Waste Receiving and Processing (WRAP) Facility for characterizing debris (S5000) and solid (S3000) wastes: the Gamma Energy Analysis Units A and B (GEA A and GEA B); the Pajarito Imaging Passive Active Neutron Units A and B (IPAN A and IPAN B); and the Super High Efficiency Neutron Counter A (SHENCA).

• NDA systems at the plutonium Finishing Plant (PFP) for characterizing debris waste (S5000): Calorimeters AR-1, AR-5, P-13, P-14 and Q-1 in conjunction with the Room 172 Segmented Gamma Scanner Assay System (SGSAS).

• WIPP Waste Information System (WWIS) for tracking the components of CH retrievably-stored TRU debris waste (S5000) and solid waste (S3000).

During the inspection, Hanford personnel stated that load management will never be performed at the site and EPA did not evaluate this aspect during the inspection [see section 8.1(5) of the inspection report]. Therefore, this proposed approval does not include load management for Hanford.

The EPA inspection team determined that the Hanford WC program for CH TRU waste was technically adequate. EPA is proposing to approve the Hanford CH TRU WC program in the configuration observed during this inspection and described in this report and the attached checklists (Attachments A.1 through A.9). This proposed approval includes the following:

(1) The AK process for CH TRU debris and solid wastes and for newly-generated debris wastes.

(2) The WRAP GEA Units A and B for assaying solid and debris wastes.

(3) The WRAP IPAN Units A and B for assaying solid and debris waste.

(4) The WRAP SHENCA system for assaying solid and debris wastes.

(5) The PFP Calorimeters AR-1, AR-5, P-13, P-14 and Q-1 in conjunction with the Room 172 SGSAS for assaying debris wastes.

(6) The nondestructive examination (NDE) process of RTR for solid and debris wastes.

(7) VE in lieu of the RTR process for retrievably-stored solid and debris wastes and VET of newly-generated debris wastes.

(8) The WWIS process for tracking of waste contents of solid and debris wastes Hanford must report and receive EPA approval of any Tier 1 (T1) changes to the Hanford WC activities from the date of the baseline inspection, and must notify EPA regarding Tier 2 (T2) changes according to Table 1, below. It is worth noting that Table 1 in this report closely follows the format used in the previous CH baseline approval report of Los Alamos National Laboratory—Central Characterization Project (LANL-CCP) (see EPA Docket No. A-98-49, II-A4-88). This format departs from what was used in baseline inspection reports and EPA site approval letters prior to LANL-CCP in several ways, as detailed in the LANL-CCP report and repeated here. The most important of these differences involves presentation of the T2 elements. In previous reports, there were two T2 columns that have been merged into a single T2 column for Hanford. The T2 column entries have also been modified to better reflect the 40 CFR 194.24(h) requirements that the site provide notification regarding the completion or availability of specific T2 elements, whereas the previous tables stated that the site must actually provide the T2 elements (document or procedure revisions, etc.). This approach is similar to the tiering tables used in EPA reports for sites characterizing remote-handled TRU waste. Additionally, there are other minor word changes to the table for the sake of legibility.

Table 1. Tiering of TRU WC Processes Implemented by Hanford Based on June 4-7 and 27, 2007 On-Site Baseline Inspection
WC process elements | Hanford WC T1 changes | Hanford WC T2 changes*
Acceptable Knowledge (AK) and Load Management | Implementation of load management; AK (5) | Notification to EPA upon completion of AK Accuracy Reports; AK (2).
| New waste streams created as a result of combining or separating previously distinct waste streams; AK (6) | Notification to EPA upon completion of updates to or substantive modifications****of the following: —AK Summaries/Waste Stream Profile Forms (WSPFs) and AK Documentation Reports; AK (16) —AK-NDA Communication changes; AK (3) —Changes to site procedure WMP 400.7.1.9; AK (4).
| Categories of waste not approved under this baseline inspection (e.g., soil/gravel, newly-generated solids including K Basin waste); AK (16) | Notification to EPA upon generation of new WSPFs, AK summaries and AK documentation reports; AK (16).
Nondestructive Assay (NDA) | New equipment or physical modifications to approved equipment**; NDA (1)*** Extension or changes to approved calibration range for approved equipment; NDA (2)*** | Notification to EPA upon completion of changes to software for approved equipment, operating range(s) and site procedures that require CBFO approval; NDA (2)***.
Real-Time Radiography (RTR) | N/A | Notification to EPA upon the following: —Implementation of new equipment or substantive changes****to approved equipment; RTR (1) —Completion of changes to site procedures requiring CBFO approval; RTR (2).
Visual Examination (VE) and Visual Examination Technique (VET) | N/A | Notification to EPA upon the following: —Completion of changes to site VE and VET procedures requiring CBFO approval; VE (1) and VET (1) —Addition of new Summary Category Group (SCG) or waste stream(s); VE (2) and VET (2).
WIPP Waste Information System (WWIS) | Implementation of load management; WWIS (4) | Notification to EPA upon the completion of changes to WWIS procedure(s) requiring CBFO approval; WWIS (1).
* Upon receiving EPA approval in this action, Hanford will report all T2 changes to EPA at the end of each fiscal year quarter.
** Modifications to approved equipment include all changes with the potential to affect NDA data relative to waste isolation and exclude minor changes, such as the addition of safety-related equipment.
*** These are discussed in Sections (1) and (2) of the section for each NDA system, i.e., 8.2.1 for WRAP GEA Units A & B, 8.2.2 for WRAP IPAN Units A & B, 8.2.3 for WRAP SHENCA and 8.2.4 for PFP Calorimeters and the Room 172 SGSAS.
**** Substantive changes means changes with the potential to impact the site's waste characterization activities or documentation thereof, excluding changes that are solely related to Environmental Safety & Health (ES&H), nuclear safety, the Resource Conservation and Recovery Act (RCRA) or are editorial in nature.

IV. Availability of the Baseline Inspection Report for Public Comment

EPA has placed the report discussing the results of the Agency's inspection of the Hanford Site in the public docket as described in ADDRESSES. In accordance with 40 CFR 194.8, EPA is providing the public 45 days to comment on these documents. The Agency requests comments on the proposed approval decision, as described in the inspection report. EPA will accept public comment on this notice and supplemental information as described in section 1.B. above. EPA will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at the three EPA WIPP informational docket locations in New Mexico (as listed in ADDRESSES). The dockets in New Mexico contain only major items from the official Air Docket in Washington, DC, plus those documents added to the official Air Docket since the October 1992 enactment of the WIPP LWA.

Dated: January 18, 2008.
Elizabeth Cotsworth,
Director, Office of Radiation and Indoor Air.

[FR Doc. E8-1658 Filed 1-29-08; 8:45 am]

BILLING CODE 6560-50-P